UNIFIED CARRIER REGISTRATION PLAN

Sunshine Act Meetings

Time and Date: March 23, 2023, 12:00 p.m. to 3:00 p.m., Eastern time.

Place: This meeting will be accessible via conference call and via Zoom Meeting and Screenshare. Any interested person may call (i) 1-929-205-6099 (US Toll) or 1-669-900-6833 (US Toll), Meeting ID: 983 8666 4360, to listen and participate in this meeting. The website to participate via Zoom Meeting and Screenshare is https://kellen.zoom.us/meeting/register/tJwuf--uqD8pHNQlPcBbJw07Q4ZJNYo-nW5K.

Status: This meeting will be open to the public.

Matters To Be Considered: The Unified Carrier Registration Plan Finance Subcommittee (the “Subcommittee”) will continue its work in developing and implementing the Unified Carrier Registration Plan and Agreement. The subject matter of this meeting will include:

Proposed Agenda

I. Call to Order—UCR Finance Subcommittee Chair

The UCR Finance Subcommittee Chair will welcome attendees, call the meeting to order, call roll for the Subcommittee, confirm whether a quorum is present, and facilitate self-introductions.

II. Verification of Publication of Meeting Notice—UCR Executive Director

The UCR Executive Director will verify the publication of the meeting notice on the UCR website and distribution to the UCR contact list via email followed by the subsequent publication of the notice in the Federal Register.

III. Review and Approval of Subcommittee Agenda and Setting of Ground Rules —UCR Finance Subcommittee Chair

For Discussion and Possible Subcommittee Action

The agenda will be reviewed, and the Subcommittee will consider adoption of the agenda.

Ground Rules

➢Subcommittee action only to be taken in designated areas on agenda.

IV. Review and Approval of Subcommittee Minutes from the November 15, 2022 Meeting—UCR Finance Subcommittee Chair

For Discussion and Possible Subcommittee Action

Draft minutes from the November 15, 2022 Subcommittee meeting at the Westin New Orleans will be reviewed. The Subcommittee will consider action to approve.

V. Allocation of Unspent 2022 UCR Administrative Funds and Interest Earned on UCR Administrative Funds—UCR Finance Subcommittee Chair and UCR Depository Manager

For Discussion and Possible Subcommittee Action

The UCR Finance Subcommittee Chair and UCR Depository Manager will lead a discussion on which reserve funds should receive allocations of unspent 2022 administrative funds and interest earned on those funds. The Subcommittee may take action to recommend to the Board allocations of unspent 2022 administrative funds and interest earned on those funds to reserve funds.

VI. Implementation of the UCR Investment Policy—UCR Finance Subcommittee Chair

For Discussion and Possible Subcommittee Action

The UCR Finance Subcommittee Chair will lead a discussion on the implementation of the UCR Investment Policy. The Subcommittee may make changes consistent with the UCR Investment Policy or if required by the Investment Policy to recommend changes to the Board.

VII. Amendments to UCR Policies on the Financial Reserve and the Unbudgeted Expense Reserve—UCR Finance Subcommittee Chair

For Discussion and Possible Subcommittee Action

The UCR Finance Subcommittee Chair will lead a discussion regarding possible amendments to the Financial Reserve Fund Policy and the Unbudgeted Expense Reserve Policy. The Subcommittee may take action to recommend to the Board possible amendments to the Financial Reserve Fund and Unbudgeted Expense Reserve Policies.

VIII. Revenues from 2022 and 2023 UCR Fees—UCR Depository Manager

The UCR Depository Manager will review the revenues received from the 2022 and 2023 plan year fees.

IX. Status of 2024 UCR Fee Recommendation—UCR Finance Subcommittee Chair and UCR Executive Director

The UCR Finance Subcommittee Chair and UCR Executive Director will provide an update on the current status of the 2024 UCR fee recommendations made to FMCSA.

X. 2025 Fee Analysis—UCR Finance Subcommittee Chair and UCR Depository Manager

The UCR Finance Subcommittee Chair and UCR Depository Manager will provide an update on the preliminary analysis of the 2025 fee recommendations.

XI. Management Report—UCR Finance Subcommittee Chair and UCR Depository Manager

The UCR Finance Subcommittee Chair and UCR Depository Manager will provide an update on UCR finances and related topics, to include current market rates on deposits, CDs, and Treasuries.

XII. Other Business—UCR Finance Subcommittee Chair

The UCR Finance Subcommittee Chair will call for any other items Subcommittee members would like to discuss.

XIII. Adjourn—UCR Finance Subcommittee Chair

The UCR Finance Subcommittee Chair will adjourn the meeting.

The agenda will be available no later than 5:00 p.m. Eastern time, March 15, 2023 at: https://plan.ucr.gov.

Contact Person for More Information: Elizabeth Leaman, Chair, Unified Carrier Registration Plan Board of Directors, (617) 305-3783, eleaman@board.ucr.gov.

Alex B. Leath,
Chief Legal Officer, Unified Carrier Registration Plan.

[FR Doc. 2023-05752 Filed 3-16-23; 4:15 pm]

BILLING CODE 4910-YL-P